DEPARTMENT OF AGRICULTURE

Forest Service

Kootenai National Forest, Lincoln County, MT; Flower Creek Project

AGENCY: Forest Service, USDA.

ACTION: Notice of intent to prepare an environmental impact statement.

SUMMARY: The Forest Service will prepare an Environmental Impact Statement (EIS) to disclose the environmental effects of fuel and vegetation management through commercial timber harvest, precommercial thinning and fuel grinding; road storage; temporary road construction; and trail construction. The project is located in the Flower Creek Watershed on the Libby Ranger District, Kootenai National Forest, Lincoln County, Montana, and south of Libby, Montana.

DATES: Comments concerning the scope of the analysis must be received by 45 days from the date of publication in the Federal Register. The draft environmental impact statement is expected December 2009 and the final environmental impact statement is expected March 2010.

ADDRESSES: Send written comments to Malcolm R. Edwards, District Ranger, Libby Ranger District, 12557 Hwy 37, Libby, MT 59923. Comments may also be sent via e-mail to comments-northern-kootenai-libby@fs.fed.us.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Denise Beck, Team Leader, Libby Ranger District, 12557 Hwy 37, Libby, MT 59923; phone: (406) 293-7773.

Individuals who use telecommunication devices for the deaf (TDD) may call the Federal Information Relay Service (FIRS) at 1-800-877-8339 between 8 a.m. and 8 p.m., Eastern Time, Monday through Friday.

SUPPLEMENTARY INFORMATION: The project area is approximately 3 air miles south of Libby, Montana, within all or portions of T30N, R31W, Sections 3, 4, 5, 15, 16, 17, 18, 19, 20, 21, 28, 29 and 30; T30N, R32W, Sections 3, 14, 15, 20, 21, 22, 23, 24, 25, 26, 27, 28, 29, 30, 32, 33, 34, 35 and 36 PMM, Lincoln County, Montana. The area contains the Flower Creek Watershed.

Purpose and Need for Action

The purpose and need for this project is to: (1) Trend vegetation in the Flower Creek Watershed towards conditions that are resilient to fire thereby reducing the risk of stand replacing wildfire and associated post-fire effects to the municipal watershed.

Proposed Action

To meet this purpose and need this project proposes:

(1) Vegetation treatments, including commercial timber harvest and associated fuel reduction, fuel reduction in stands that are not economically viable for commercial harvest, pre-commercial thinning, yarding tops to the landing in commercial harvest units, grinding landing piles and spot fuel grinding or mastication with and without associated timber harvest. Vegetation treatments total 990 acres of treated area.

(2) Access management includes road storage and construction of temporary road. Approximately 1.81 miles of road storage is proposed. Approximately 1 mile of temporary road construction to access treatment units is proposed.

(3) Construction of a non-system trail tread to form a walking loop in the project area for a total of 0.23 miles.

Possible Alternatives

The Forest Service will consider a range of alternatives. One of these will be the “no action” alternative in which none of the proposed activities will be implemented. Additional alternatives will examine varying levels and locations for the proposed activities to achieve the proposal's purposes, as well as to respond to the issues and other resource values.

Responsible Official

Forest Supervisor of the Kootenai National Forest, 31374 U.S. Highway 2 West, Libby, MT 59923. As the Responsible Official, I will decide if the proposed project will be implemented. I will document the decision and reasons for the decision in the Record of Decision. I have delegated the responsibility for preparing the DEIS and FEIS to Malcolm R. Edwards, District Ranger, Libby Ranger District.

Scoping Process

This notice of intent initiates the scoping process, which guides the development of the environmental impact statement. A public meeting will be held June 16 in Libby, Montana followed by a public field trip on June 18.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: May 21, 2009.
Paul Bradford,
Forest Supervisor, Kootenai National Forest.

[FR Doc. E9-12724 Filed 6-2-09; 8:45 am]

BILLING CODE 3410-11-M